NATIONAL AERONAUTICS AND SPACE ADMINISTRATION

[Notice 01-068]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: June 14, 2001.

FOR FURTHER INFORMATION CONTACT: Linda Blackburn, Patent Counsel, NASA Langley Research Center, Mail Code 212, Hampton, VA 23691-2199; telephone (757) 864-3521, fax (757) 864-9190.

NASA Case No. LAR-15602-1: Passive Fetal Heart Monitoring System and Method for Simultaneously Making A Plurality of Acoustic Signal Sensor Elements;

NASA Case No. LAR-15944-1: Phenyethynyl Containing Imide-Silanes;

NASA Case No. LAR-15945-1: A Novel Surface Treatment for Titanium Alloys;

NASA Case No. LAR-15959-1: Structural Tailored High Displacement Ferro-Electric Sensors and Actuators;

NASA Case No. LAR-15990-1: Dual Transmission Interface for Passive Fetal Heart Monitoring;

NASA Case No. LAR-16020-1: Single Vector Force Balance Calibration System;

NASA Case No. LAR-16079-1: Liquid Crystalline Thermosets from Oligo-Esters, Ester-Imides and Ester-Amides.

Dated: June 4, 2001.
Edward A. Frankle,
General Counsel.

[FR Doc. 01-15011 Filed 6-13-01; 8:45 am]

BILLING CODE 7510-01-P